DEPARTMENT OF THE INTERIOR

Bureau of Land Management

[LLWO250000.18XL1109AF.L12200000.PM0000; OMB Control Number 1004-0165]

Agency Information Collection Activities; Submission to the Office of Management and Budget for Review and Approval; Cave Management: Cave Nominations and Confidential Information

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before July 20, 2018.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Jean Sonneman; or by email to jesonnem@blm.gov. Please reference OMB Control Number 1004-0165 in the subject line of your comments.

FOR FURTHER INFORMATION CONTACT: To request additional information about this ICR, contact Jonathan Jasper by email at jjasper@blm.gov, or by telephone at 435-688-3264. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format. A Federal Register notice with a 60-day public comment period soliciting comments on this collection of information was published on January 16, 2018 (83 FR 2180). The comment period closed on March 19, 2018. On April 12, 2018, 24 days after the comment period closed, the BLM received one comment via email. The comment referred specifically to the Bears Ears and Grand Staircase Escalante National Monuments.

Except for the mention of the OMB control number in the title of the comment, the comment did not mention the information collection, and the BLM has taken no action to revise the information collection in response to the comment. The BLM Information Collection Clearance Officer has forwarded the comments to the appropriate BLM staff for consideration.

We are again soliciting comments on the ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Land-management agencies within the Department of the Interior use the information in order to comply with the Federal Cave Resources Protection Act (FCRPA), 16 U.S.C. 4301 through 4310 and the Department's regulations at 43 CFR part 37. The FRCPA requires these agencies to identify and protect “significant” caves on Federal lands within their respective jurisdictions, and allows agencies to disclose to the public the location of significant caves only in limited circumstances. However, the FRCPA and BLM regulations also authorize certain individuals, organizations, and governmental agencies to request confidential cave information.

Previously, the activities in this control number were not separated into collections from individuals, from the private sector, and from state, local, and tribal governments. This request revises the control number, and thereby corrects that omission, by adding specific activities for the latter two categories of respondents, and by adding to the previous activity labels the word “individuals.”

Title of Collection: Cave Management: Cave Nominations and Requests for Confidential Information.

OMB Control Number: 1004-0165.

Form Numbers: None.

Type of Review: Revision of a currently approved collection.

Respondents/Affected Public: Governmental agencies and the public may submit cave nominations pursuant to section 4 of the FCRPA (16 U.S.C. 4303) and 43 CFR 37.11. Requests for confidential information may be submitted pursuant to 16 U.S.C. 4304 and 43 CFR 37.12 by:

• Federal and state governmental agencies;

• Bona fide educational and research institutions; and

• Individuals and organizations assisting a land management agency with cave management activities.

Total Estimated Number of Annual Respondents: 28.

Total Estimated Number of Annual Responses: 28.

Estimated Completion Time per Response: Varies from 1 hour to 11 hours, depending on activity.

Total Estimated Number of Annual Burden Hours: 278.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq).

Jean Sonneman,
Bureau of Land Management, Information Collection Clearance Officer.

[FR Doc. 2018-13245 Filed 6-19-18; 8:45 am]

BILLING CODE 4310-84-P